DEPARTMENT OF JUSTICE

Notice of Lodging of Proposed Consent Decree Under the Clean Water Act

On July 28, 2016, the Department of Justice lodged a proposed consent decree with the United States District Court for the District of Nevada in the lawsuit entitled United States and State of Nevada, Dept. of Conservation and Natural Resources v. Nevada Department of Transportation, Civil Action No.3:16-cv-453.

The complaint in this lawsuit involves claims that the Nevada Department of Transportation (“NDOT”) discharged pollutants from its municipal separate storm water system into waters of the United States in violation of its National Pollution Discharge Elimination System Permit. Under the Decree, NDOT will develop and implement programs to control discharges from construction activity, areas that are redeveloped or newly developed, and from activities NDOT conducts to operate and maintain the highway system. NDOT will pay a civil penalty of $120,000 to be split evenly between the United States and the State of Nevada, Department of Conservation and Natural Resources. NDOT will also implement a Real-Time Water Quality Data Availability Supplemental Environmental Project.

The publication of this notice opens a period for public comment on the consent decree. Comments should be addressed to the Assistant Attorney General, Environment and Natural Resources Division, and should refer to United States and State of Nevada, Dept. of Conservation and Natural Resources v. Nevada Department of Transportation D.J. Ref. No. 90-5-1-1-11031. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $12.50 (25 cents per page reproduction cost) payable to the United States Treasury.

Henry S. Friedman,
Assistant Section Chief, Environmental Enforcement Section, Environment and Natural Resources Division.

[FR Doc. 2016-18377 Filed 8-2-16; 8:45 am]

BILLING CODE 4410-15-P